DEPARTMENT OF AGRICULTURE

Grain Inspection, Packers and Stockyards Administration

Proposed Posting, Posting, and Deposting of Stockyards

AGENCY: Grain Inspection, Packers and Stockyards Administration, USDA.

ACTION: Notice and request for comments.

SUMMARY: We propose to post nine stockyards. We have received information that the stockyards meet the definition of a stockyard under the Packers and Stockyards Act and, therefore, need to be posted. Posted stockyards are subject to the provisions of the Packers and Stockyards Act. We have posted one stockyard. We determined that the stockyard meets the definition of a stockyard under the Packers and Stockyards Act and, therefore, needed to be posted. We are also deposting two stockyards. These facilities can no longer be used as stockyards and, therefore, are no longer required to be posted.

DATES: For the proposed posting of stockyards, we will consider comments that we receive by April 20, 2006.

For the deposted stockyards, the deposting is effective on April 5, 2006.

ADDRESSES: We invite you to submit comments on this notice. You may submit comments by any of the following methods:

• E-Mail: Send comments via electronic mail to comments.gipsa@usda.gov.

• Mail: Send hardcopy written comments to Tess Butler, GIPSA, USDA, 1400 Independence Avenue, SW., Room 1647-S, Washington, DC 20250-3604.

• Fax: Send comments by facsimile transmission to: (202) 690-2755.

• Hand Delivery or Courier: Deliver comments to: Tess Butler, GIPSA, USDA, 1400 Independence Avenue, SW., Room 1647-S, Washington, DC 20250-3604.

SUPPLEMENTARY INFORMATION: The Grain Inspection, Packers and Stockyards Administration (GIPSA) administers and enforces the Packers and Stockyards Act of 1921, as amended and supplemented (7 U.S.C. 1-229) (P&S Act). The P&S Act prohibits unfair, deceptive, and fraudulent practices by livestock market agencies, dealers, stockyard owners, meat packers, swine contractors, and live poultry dealers in the livestock, poultry, and meatpacking industries.

Section 302 of the P&S Act (7 U.S.C. 202) defines the term ``stockyard'' as follows:

* * * any place, establishment, or facility commonly known as stockyards, conducted, operated, or managed for profit or nonprofit as a public market for livestock producers, feeders, market agencies, and buyers, consisting of pens, or other inclosures, and their appurtenances, in which live cattle, sheep, swine, horses, mules, or goats are received, held, or kept for sale or shipment in commerce.

Section 302(b) of the P&S Act requires the Secretary to determine which stockyards meet this definition, and to notify the owner of the stockyard and the public of that determination by posting a notice in each designated stockyard. After giving notice to the stockyard owner and to the public, the stockyard will be subject to the provisions of Title III of the P&S Act (7 U.S.C. 201-203 and 205-217a) until the Secretary deposts the stockyard by public notice.

This document notifies the stockyard owners and the public that the following nine stockyards meet the definition of stockyard and that we propose to designate the stockyards as posted stockyards.

Facility No. | Stockyard name and location
NC—177 | Cliffside Horse Auction, Mooresboro, North Carolina.
GA—227 | Friendship Farm Livestock Auction, Bartow, Georgia.
FL—138 | Col. Jerry Colvin d.b.a. C.J. Auctions, Lamont, Florida.
GA—228 | Triple R. Ranch, Lavonia, Georgia.
GA—229 | Red Barn Livestock Auction, Inc., Sylvester, Georgia.
MO—286 | Miller County Regional Stockyards, Eldon, Missouri.
TX—349 | Rio Grand Classic, El Paso, Texas.
PA—161 | Johas Lee Fisher & Jacob B. Fisher d.b.a. Fishers Quality Dairy Sales, Ronks, Pennsylvania.
FL—139 | Arcadia Stockyard, Arcadia, Florida.

This document also notifies the public that the following stockyard meets the definition of stockyard and that we have posted the stockyard. We published a notice proposing to post the stockyard on July 6, 2004 (69 FR 40597). We received no comments in response to the proposed posting notice. To post a stockyard, we assign the stockyard a facility number, notify the owner of the stockyard facility, and send notices to the owner of the stockyard to post on display in public areas of the stockyard. The date of posting is the date on which the posting notices are physically displayed.

Facility No. | Stockyard name and location | Date of posting
CA-192 | Red Ryder Ranch, Lancaster, California | May 23, 2005.

Additionally, this document notifies the public that the following two stockyards no longer meet the definition of stockyard and that we are deposting the facilities. We depost a stockyard when the facility can no longer be used as a stockyard. Some of the reasons a facility can no longer be used as a stockyard include: the facility has been moved and the posted facility is abandoned, the facility has been torn down or otherwise destroyed, such as by fire, the facility is dilapidated beyond repair, or the facility has been converted and its function changed.

Facility No. | Stockyard name and location | Date posted
SC-125 | York Stockyard, Inc., York, South Carolina | April 18, 1960.
IA-149 | Fairfield Livestock Auction, L.L.C., Fairfield, Iowa | May 19, 1959.

Effective Date

This deposting is effective upon publication in the Federal Register because it relieves a restriction and, therefore, may be made effective in less than 30 days after publication in the Federal Register without prior notice or other public procedure.

Authority: 7 U.S.C. 202.

James E. Link,
Administrator, Grain Inspection, Packers and Stockyards Administration.

[FR Doc. 06-3301 Filed 4-4-06; 8:45 am]

BILLING CODE 3410-EN-P